DEPARTMENT OF STATE

22 CFR Part 171

[Public Notice: 12539]

RIN 1400-AF86

Access to Information; Privacy Act Provisions

AGENCY: Department of State.

ACTION: Final rule.

SUMMARY: The Department of State is removing Personality Index to the Central Foreign Policy Records, State-29, from the list of system of records notices (SORNs) for which Privacy Act exemptions are claimed. The Department has determined that the personality index search tool covered by this SORN was disposed of when the State Archiving System (SAS) was decommissioned in May 2020, and this SORN has been rescinded.

DATES: rule is effective on September 30, 2024.

FOR FURTHER INFORMATION CONTACT: Timothy J. Kootz, Senior Agency Official for Privacy; U.S. Department of State; Office of Global Information Services, A/GIS; Room 4534, 2201 C St., NW; Washington, DC 20520 or by calling on (202) 304 5979.

SUPPLEMENTARY INFORMATION: The System of Records Notice (SORN) State-29, Personality Index to the Central Foreign Policy Records, has been rescinded. See 89 FR 43974 (May 20, 2024).

Pursuant to 5 U.S.C. 552a (k)(1), (k)(2), (k)(3), and (k)(7), records in State-29 were exempted from subsections (c)(3), (d), (e)(1), (e)(4)(G), (H), (I), and (f). This rulemaking amends 22 CFR 171.26 by removing STATE-29 from the lists of exemptions.

Regulatory Analysis

This rulemaking is published as a final rule with immediate effect due to the good cause exemption of the Administrative Procedure Act, 5 U.S.C. 553(b)(3)(B) and 553(d). Since State-29 is no longer a SORN, it cannot be listed in the lists of SORNs exempted from the Privacy Act. Therefore, the Department finds good cause to promulgate this rulemaking, with immediate effect (5 U.S.C. 553(d), and finds that public comment on this rulemaking would be unnecessary.

List of Subjects in 22 CFR Part 171

Privacy.

For the reasons stated in the preamble, 22 CFR part 171 is amended as follows:

PART 171—PUBLIC ACCESS TO INFORMATION

1. The authority citation for 22 CFR part 171 continues to read as follows:

Authority: 22 U.S.C. 2651a; 5 U.S.C. 552, 552a; E.O. 12600 (52 FR 23781); Pub. L. 114-185; Pub. L. 95-521, 92 Stat. 1824 (codified as amended at 5 U.S.C. Ch. 131); 5 CFR part 2634.

2. Section 171.26 is amended by revising paragraphs (b)(1), (2), (3) and (7) as follows:

§ 171.26 Exemptions.

* * * * *

(b) * * *

(1) Exempt under 5 U.S.C. 552a(k)(1). Records contained within the following systems of records are exempt under this section to the extent that they are subject to the provisions of 5 U.S.C. 552(b)(1).

Table 2 to Paragraph (b)(1)
Title | No.
Board of Appellate Review Records | STATE-02.
Congressional Correspondence | STATE-43.
Congressional Travel Records | STATE-44.
Coordinator for the Combating of Terrorism Records | STATE-06.
External Research Records | STATE-10.
Extradition Records | STATE-11.
Family Advocacy Case Records | STATE-75.
Foreign Assistance Inspection Records | STATE-48.
Human Resources Records | STATE-31.
Information Access Programs Records | STATE-35.
Intelligence and Research Records | STATE-15.
International Organizations Records | STATE-17.
Law of the Sea Records | STATE-19.
Legal Case Management Records | STATE-21.
Munitions Control Records | STATE-42.
Office of Inspector General Investigation Management System | STATE-53.
Overseas Citizens Services Records | STATE-05.
Passport Records | STATE-26.
Personality Cross-Reference Index to the Secretariat Automated Data Index | STATE-28.
Personnel Payroll Records | STATE-30.
Records of Domestic Accounts Receivable | STATE-23.
Records of the Office of the Assistant Legal Adviser for International Claims and Investment Disputes | STATE-54.
Records of the Office of White House Liaison | STATE-34.
Refugee Records | STATE-59.
Risk Analysis and Management Records | STATE-78.
Rover Records | STATE-41.
Security Records | STATE-36.
Visa Records | STATE-39.

(2) Exempt under 5 U.S.C. 552a(k)(2). Records contained within the following systems of records are exempt under this section to the extent that they consist of investigatory material compiled for law enforcement purposes, subject to the limitations set forth in 5 U.S.C. 552a(k)(2).

Table 3 to Paragraph (b)(2)
Title | No.
Board of Appellate Review Records | STATE-02.
Coordinator for the Combating of Terrorism Records | STATE-06.
Extradition Records | STATE-11.
Family Advocacy Case Records | STATE-75.
Foreign Assistance Inspection Records | STATE-48.
Garnishment of Wages Records | STATE-61.
Information Access Program Records | STATE-35.
Intelligence and Research Records | STATE-15.
Munitions Control Records | STATE-42.
Office of Foreign Missions Records | STATE-81.
Office of Inspector General Investigation Management System | STATE-53.
Overseas Citizens Services Records | STATE-05.
Passport Records | STATE-26.
Personality Cross-Reference Index to the Secretariat Automated Data Index | STATE-28.
Risk Analysis and Management Records | STATE-78.
Security Records | STATE-36.
Visa Records | STATE-39.

(3) Exempt under 5 U.S.C. 552a(k)(3). Records contained within the following systems of records are exempt under this section to the extent that they are maintained in connection with providing protective services pursuant to 18 U.S.C. 3056.

Table 4 to Paragraph (b)(3)
Title | No.
Extradition Records | STATE-11.
Information Access Programs Records | STATE-35.
Intelligence and Research Records | STATE-15.
Overseas Citizens Services Records | STATE-05.
Passport Records | STATE-26.
Personality Cross-Reference Index to the Secretariat Automated Data Index | STATE-28.
Security Records | STATE-36.
Visa Records | STATE-39.

* * * * *

(7) Exempt under 5 U.S.C. 552a(k)(7). Records contained within the following systems of records are exempt under this section to the extent that they consist of evaluation material used to determine potential for promotion in the armed services, but only to the extent that such disclosure would reveal the identity of a confidential informant.

Table 8 to Paragraph (b)(7)
Title | No.
Human Resources Records | STATE-31.
Information Access Programs Records | STATE-35.
Overseas Citizens Services Records | STATE-25.
Personality Cross-Reference Index to the Secretariat Automated Data Index | STATE-28.
Security Records | STATE-36.

Timothy J. Kootz,
Deputy Assistant Secretary, Global Information Services (A/GIS), Department of State.

[FR Doc. 2024-22297 Filed 9-27-24; 8:45 am]

BILLING CODE 4710-24-P